DEPARTMENT OF LABOR

Employment and Training Administration

[TA-W-62,507]

Chester Bednar Rental Realty, Washington, PA; Notice of Negative Determination on Reconsideration

On January 8, 2008, the Department issued an Affirmative Determination Regarding Application for Reconsideration for the workers and former workers of the subject firm. The Department's Notice of determination was published in the Federal Register on January 16, 2008 (73 FR 2941).

The initial negative determination regarding eligibility to apply for Trade Adjustment Assistance (TAA) and Alternative Trade Adjustment Assistance (ATAA) applicable to workers and former workers of the subject firm was based on the Department's findings that the subject firm did not separate or threaten to separate from employment a significant number or proportion of workers as required by Section 222 of the Trade Act of 1974.

The request for reconsideration implied that the subject firm had separated more than three employees from employment.

During the reconsideration investigation, the Department requested that the company official provide documentation that the subject firm had separated or threaten to separate from employment a significant number or proportion of workers.

Based on the company official's response, the Department affirms that the subject firm did not separate or threaten to separate from employment a significant number or proportion of workers.

The Department finds that Section 222 of the Trade Act of 1974 was not satisfied and that the group eligibility criteria for TAA certification were not met.

In order for the Department to issue a certification of eligibility to apply for Alternative Trade Adjustment Assistance (ATAA), the subject worker group must be certified eligible to apply for Trade Adjustment Assistance (TAA). Since the subject workers are denied eligibility to apply for TAA, the workers cannot be certified eligible for ATAA.

Conclusion

After careful reconsideration, I affirm the original notice of negative determination of eligibility to apply for worker adjustment assistance for workers and former workers of Chester Bednar Rental Realty, Washington, Pennsylvania.

Signed at Washington, DC this 6th day of February 2008.
Elliott S. Kushner,
Certifying Officer, Division of Trade Adjustment Assistance.

[FR Doc. E8-2616 Filed 2-12-08; 8:45 am]

BILLING CODE 4510-FN-P